DEPARTMENT OF COMMERCE

International Trade Administration

[A-580-825]

Oil Country Tubular Goods from Korea: Extension of Time Limit for Preliminary Results of Antidumping Administrative Review

AGENCY: Import Administration, International Trade Administration, Department of Commerce.

ACTION: Notice of Extension of Time Limit For Preliminary Results of Administrative Review.

EFFECTIVE DATE: May 8, 2001.

FOR FURTHER INFORMATION CONTACT: Michael Strollo, AD/CVD Enforcement, Import Administration, International Trade Administration, U.S. Department of Commerce, 14th Street and Constitution Avenue, NW., Washington DC 20230; telephone: (202) 482-5255.

SUPPLEMENTARY INFORMATION:

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2000).

Background

On August 31, 2000, the Department of Commerce (the Department) received a request from SeAH Steel Corporation (“SeAH”) for an administrative review of the antidumping duty order on oil country tubular goods from Korea. On October 2, 2000, the Department published a notice of initiation of this administrative review, covering the period of August 1, 1999 through July 31, 2000 (65 FR 58733).

Extension of Time Limits for Preliminary Results

Because of the complexities enumerated in the Memorandum from Barbara E. Tillman to Joseph A. Spetrini, Extension of Time Limit for the Preliminary Results of the Antidumping Duty Administrative Review of Oil Country Tubular Goods (OCTG) from Korea, dated April 18, 2001, it is not practical to complete this review within the time limits mandated by section 751(a)(3)(A) of the Act.

Therefore, in accordance with section 751(a)(3)(A) of the Act, the Department is extending the time limit for the preliminary results of review until August 31, 2001. The final results continue to be due 120 days after the publication of the preliminary results.

Dated: April 27, 2001.
Joseph A. Spetrini,
Acting Deputy Assistant Secretary, AD/CVD Enforcement Group III.

[FR Doc. 01-11532 Filed 5-7-01; 8:45 am]

BILLING CODE 3510-DS-P